DEPARTMENT OF ENERGY

Federal Energy Regulatory Commission

[Project No. 12790-002]

Andrew Peklo III; Notice of Application Accepted for Filing, Intent To Waive Scoping, Soliciting Motions To Intervene and Protests, Ready for Environmental Analysis, and Soliciting Comments, Terms and Conditions, Recommendations, and Prescriptions

Take notice that the following hydroelectric application has been filed with the Commission and is available for public inspection. An application for exemption from licensing was filed on February 16, 2011; however, on January 17, 2013, the applicant converted its application for exemption from licensing to an application for license. This notice refers to the docket for the application for license (P-12790-002). All stakeholder comments, motions to intervene, and protests filed on the proceeding for the application for exemption from licensing (P-12790-001) are incorporated into the docket for the application for license.

a. Type of Application: Minor License.

b. Project No.: 12790-002.

c. Date filed: January 17, 2013.

d. Applicant: Andrew Peklo III.

e. Name of Project: Pomperaug Hydro Project.

f. Location: On the Pomperaug River, in the Town of Woodbury, Litchfield County, Connecticut. The project would not occupy lands of the United States.

g. Filed Pursuant to: Federal Power Act (FPA) 16 U.S.C. 791 (a)-825(r).

h. Applicant Contact: Andrew Peklo III, 29 Pomperaug Road, Woodbury, CT 06798, (203) 263-4566, themill@charter.net.

i. FERC Contact: Steve Kartalia, (202) 502-6131 or Stephen.kartalia@ferc.gov.

j. Cooperating agencies: Federal, state, local, and tribal agencies with jurisdiction and/or special expertise with respect to environmental issues that wish to cooperate in the preparation of the environmental document should follow the instructions for filing such requests described in item k below. Cooperating agencies should note the Commission's policy that agencies that cooperate in the preparation of the environmental document cannot also intervene. See, 94 FERC ¶ 61,076 (2001).

k. Deadline for filing motions to intervene and protests, comments, terms and conditions, recommendations, prescriptions, and requests for cooperating agency status: Due to the previous opportunities to file motions to intervene and protests, comments, terms and conditions, recommendations, and prescriptions under P-12970-001, the 60-day timeframe specified in 18 CFR 4.34(b) for filing comments (including mandatory and recommended terms and conditions or prescriptions) on the application for license is shortened. Motions to intervene and protests, comments, terms and conditions, recommendations, prescriptions, and requests for cooperating agency status on the license application are due 30 days from the issuance date of this notice. All reply comments must be filed with the Commission within 45 days from the date of this notice. Comments, interventions, and protests filed on the exemption from licensing proceeding (P-12790-001) do not need to be refiled under P-12970-002. However, conditions filed under section 30(c) of the FPA will be considered under section 10(a) of the FPA unless they are withdrawn or superseded by conditions appropriate for an application for license.

All new documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

l. The application for license has been accepted for filing and is now ready for environmental analysis.

m. The Pomperaug Hydro Project would consist of: (1) The existing 90-foot-long, 15-foot-high Pomperaug River dam equipped with three existing gates; (2) an existing 3-acre impoundment with a normal water surface elevation of 226.43 feet above mean sea level; (3) an existing 40-foot-long, 42- to 50-inch-diameter penstock; and (4) an existing powerhouse integral to the dam, containing one new 76-kilowatt turbine generating unit. Project power would be transmitted through a new 35-foot-long, 208-volt underground transmission line. The proposed project is estimated to generate an average of 300,000 kilowatt-hours annually.

The applicant proposes to: (1) Rehabilitate the existing gates and construct a new intake structure; (2) install the new turbine generating unit; (3) construct new fish and eel passage facilities; and (4) bury the new transmission line. The application for license does not include any proposed modifications to the crest elevation of the dam or the water surface elevation of the impoundment.

n. Due to the applicant's close coordination with federal and state agencies during the preparation of the application, completed studies, and prior opportunities for public and agency comment, we intend to waive scoping. The issues that need to be addressed in Commission staff's environmental assessment (EA) have been adequately identified through comments filed on P-12970-001 and comments made during a January 18, 2012, public meeting and site visit and no new issues are likely to be identified through additional scoping. The EA will consider assessing the potential effects of project construction and operation on geology and soils, aquatic resources, terrestrial resources, recreation, land use, aesthetic resources, and cultural resources.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

Anyone may submit comments, a protest, or a motion to intervene in accordance with the requirements of Rules of Practice and Procedure, 18 CFR 385.210, 385.211, and 385.214. In determining the appropriate action to take, the Commission will consider all protests or other comments filed, but only those who file a motion to intervene in accordance with the Commission's Rules may become a party to the proceeding. Any comments, protests, or motions to intervene must be received on or before the deadline specified in item k above. Comments, interventions, and protests filed on the exemption from licensing proceeding (P-12790-001) do not need to be refiled under P-12970-002.

All filings must: (1) Bear in all capital letters the title “PROTEST,” “MOTION TO INTERVENE,” “REQUEST FOR COOPERATING AGENCY STATUS,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

p. Public notice of the filing of the initial development application was made under P-12970-001 and established the due date for filing competing applications or notices of intent. Under the Commission's regulations, any competing development application must be filed in response to and in compliance with public notice of the initial development application. No competing applications or notices of intent may be filed in response to this notice.

q. The license applicant must file no later than 60 days following the date of issuance of this notice: (1) A copy of the water quality certification; (2) a copy of the request for certification, including proof of the date on which the certifying agency received the request; or (3) evidence of waiver of water quality certification.

r. Procedural schedule: The application will be processed according to the following procedural schedule. Revisions to the schedule may be made as appropriate.

Milestone | Target date
Notice of the availability of the EA | August 2013.

Dated: April 8, 2013.
Kimberly D. Bose,
Secretary.

[FR Doc. 2013-08584 Filed 4-11-13; 8:45 am]

BILLING CODE 6717-01-P